DEPARTMENT OF COMMERCE

International Trade Administration

[A-533-824, A-583-837, C-533-825]

Polyethylene Terephthalate Film, Sheet and Strip From India and Taiwan: Continuation of Antidumping and Countervailing Duty Orders

AGENCY: Enforcement and Compliance, International Trade Administration, Department of Commerce.

DATES: Effective Date: August 6, 2014.

SUMMARY: As a result of the determinations by the Department of Commerce (the Department) and the International Trade Commission (ITC) that revocation of the antidumping duty and countervailing duty orders on Polyethylene Terephthalate Film, Sheet and Strip (PET Film) from India and the antidumping duty order on PET Film from Taiwan, would likely lead to a continuation or recurrence of dumping and material injury to an industry in the United States, the Department is publishing a notice of continuation for these antidumping and countervailing duty orders.

Contact Information: Jacqueline Arrowsmith, AD/CVD Operations, Office VII, Enforcement and Compliance, International Trade Administration, U.S. Department of Commerce, 14th Street and Constitution Avenue NW, Washington, DC 20230; telephone (202) 482-5255.

SUPPLEMENTARY INFORMATION:

Background

The Department initiated and the ITC instituted sunset reviews of the antidumping duty orders on PET Film from India and Taiwan and the countervailing duty order on PET Film from India, pursuant to section 751(c) and 752 of the Tariff Act of 1930, as amended (the Act).¹

¹ See Initiation of Five Year (“Sunset”) Review, 78 FR 19647 (April 2, 2013).

As a result of its review, the Department found that revocation of the countervailing duty order would likely lead to a continuation or recurrence of net countervailable subsidies, and therefore, notified the ITC of the subsidy rate were the order to be revoked.² As a result of its review, the Department found that revocation of the antidumping duty orders on PET Film from India and Taiwan would likely lead to a continuation or recurrence of dumping and, therefore, notified the ITC of the magnitude of the margins likely to prevail were the orders to be revoked.³

² See Polyethylene Terephthalate (PET) Film, Sheet and Strip From India: Final Results of the Expedited Second Sunset Review of the Countervailing Duty Order, 78 FR 47276 (August 5, 2013).

³ See Polyethylene Terephthalate Film, Sheet and Strip From India and Taiwan: Final Results of the Second Sunset Review of the Antidumping Duty Orders and Correction to the Preliminary Results, 79 FR 12153 (March 4, 2014).

On July 22, 2014, the ITC published its determination pursuant to sections 751(c) and 752 of the Act, that revocation of the antidumping duty order on PET Film from India and Taiwan would likely lead to a continuation or recurrence of dumping and the countervailing duty order on PET Film from India would likely lead to a continuation or recurrence of net countervailable subsidies.⁴

⁴ See Polyethylene Terephthalate Film, Sheet and Strip From India and Taiwan, 79 FR 42534 (July 22, 2014).

Scope of the Orders

The products covered by the antidumping duty and countervailing duty orders are all gauges of raw, pretreated, or primed PET Film, whether extruded or coextruded. Excluded are metallized films and other finished films that have had at least one of their surfaces modified by the application of a performance-enhancing resinous or inorganic layer of more than 0.00001 inches thick. Imports of PET Film are currently classifiable in the Harmonized Tariff Schedule of the United States (HTSUS) under item number 3920.62.00.90. HTSUS subheadings are provided for convenience and customs purposes. The written description of the scope of the antidumping duty order is dispositive.

Scope Determinations

Since these orders were published, there was one scope determination for PET film from India, dated August 25, 2003. In this determination, requested by International Packaging Films Inc., the Department determined that tracing and drafting film is outside of the scope of the order on PET Film from India.⁵

⁵ See Notice of Scope Rulings, 70 FR 24533 (May 10, 2005).

Continuation of the Orders

As a result of the determinations by the Department and the ITC that revocation of the antidumping duty orders and the countervailing duty order would likely lead to a continuation or recurrence of dumping and net countervailable subsidies and material injury to an industry in the United States, pursuant to sections 751(c) and 751(d)(2) of the Act, the Department hereby orders the continuation of these antidumping duty orders on PET film from India and Taiwan and the countervailing duty order on PET Film from India. U.S. Customs and Border Protection will continue to collect antidumping duty and countervailing duty cash deposits at the rates in effect at the time of entry for all imports of subject merchandise.

The effective date of the continuation of this order will be the date of publication in the Federal Register of this notice of continuation. Pursuant to section 751(c)(2) of the Act, the Department intends to initiate the next five-year review of this order not later than 30 days prior to the fifth anniversary of the effective date of continuation.

This five-year (sunset) review and this notice are in accordance with section 751(c) of the Act and published pursuant to section 777(i)(1) of the Act and 19 CFR 351.218(f)(4).

Dated: July 29, 2014.
Paul Piquado,
Assistant Secretary for Enforcement and Compliance.

[FR Doc. 2014-18599 Filed 8-5-14; 8:45 am]

BILLING CODE 3510-DS-P